DEPARTMENT OF ENERGY

Federal Energy Regulatory Commission

[Docket No. RP04-326-000]

Marathon LNG Marketing, LLC; Notice of Petition for Declaratory Order

June 14, 2004.

Take notice that on June 7, 2004, Marathon LNG Marketing LLC (Marathon LNG) tendered for filing a petition for a declaratory order to remove uncertainty regarding the applicability of the Commission's “buy/sell” policy to a “redelivery option” provision included in an LNG sales contract between itself and BG LNG Services, LLC (BG LNG Services) pertaining to services at the Elba Island LNG Terminal.

Marathon LNG requests an order declaring that the “redelivery option” in the LNG sales contract does not conflict with the Commission's “buy/sell” policy. To the extent that the Commission concludes otherwise, Marathon LNG asks that the Commission grant any and all waivers to allow the LNG sales contract, including the “redelivery option” to be implemented in its entirety or order that the parties work together to restructure the “redelivery option” as a prearranged release of capacity at Elba Island in a manner consistent with the provisions of the Southern LNG, Inc., tariff.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eFiling link.

Intervention and Protest Date: July 7, 2004.

Magalie R. Salas,
Secretary.

[FR Doc. E4-1383 Filed 6-18-04; 8:45 am]

BILLING CODE 6717-01-P